DEPARTMENT OF COMMERCE

National Oceanic and Atmospheric Administration

RIN 0648-XE009

Marine Mammals; File No. 19425

AGENCY: National Marine Fisheries Service (NMFS), National Oceanic and Atmospheric Administration (NOAA), Commerce.

ACTION: Notice; receipt of application for permit amendment.

SUMMARY: Notice is hereby given that Melissa McKinney, Ph.D., University of Connecticut, Center for Environmental Sciences and Engineering, 3107 Horsebarn Hill Road, U-4210, Storrs, CT 06269, has applied for an amendment to Scientific Research Permit No. 19425.

DATES: Written, telefaxed, or email comments must be received on or before July 28, 2017.

ADDRESSES: The application and related documents are available for review by selecting “Records Open for Public Comment” from the “Features” box on the Applications and Permits for Protected Species home page, https://apps.nmfs.noaa.gov, and then selecting File No. 19425 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Jennifer Skidmore, (301) 427-8401.

SUPPLEMENTARY INFORMATION: The subject amendment to Permit No. 19425 is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR parts 222-226), and the Fur Seal Act of 1966, as amended (16 U.S.C. 1151 et seq.).

Permit No. 19425, issued on July 31, 2015 (80 FR 52453), authorizes the permit holder to analyze marine mammal samples to study contaminant levels, specifically using fatty acid and table isotopes to examine diets and contaminant loads and how they are affected by climate change. Cetacean and pinniped tissue samples come from remote biopsy sampling, captured animals, and animals collected during subsistence harvests and originate in the United States, Canada, and Greenland/Denmark. No live animals are harassed or taken, lethally or otherwise, under the permit. The permit holder is requesting the permit be amended to increase the number of samples from 50 per year to 300 per year, for both pinniped and cetacean species. The additional samples would increase the robustness of the analyses. The permit is valid through August 1, 2020.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: June 23, 2017.
Catherine Marzin,
Acting Deputy Director, Office of Protected Resources, National Marine Fisheries Service.

[FR Doc. 2017-13529 Filed 6-27-17; 8:45 am]

BILLING CODE 3510-22-P